DEPARTMENT OF HEALTH AND HUMAN SERVICES

Indian Health Service

Submission for OMB Review; Comment Request

AGENCY: Indian Health Service, DHHS.

ACTION: Information collection request for public comment: 30-day notice proposed collection: Stakeholder satisfaction with IHS tribal consultation.

SUMMARY: In compliance with Section 3507(a)(1)(D) of the Paperwork Reduction Act of 1995, for opportunity for public comment on proposed information collection projects, the Indian Health Service (IHS) has submitted to the Office of Management and Budget (OMB) a request to review and approve the information collection listed below. This proposed information collection project was previously published in the Federal Register (66 FR 52774) and allowed 60 days for public comment. No public comment was received in response to the notice. The purpose of this notice is to allow 30 days for public comment to be submitted to OMB.

Proposed Collection

A voluntary survey will be conducted of elected leaders representing federally recognized tribes, and any board member or executive director authorized to represent a tribal organization or an urban Indian health program to assess the level of customer (stakeholder) satisfaction with the agency's tribal consultation process.

Title: Stakeholder Satisfaction with IHS Tribal Consultation.

Type of Information Collection Request: New collection.

Form Number(s): None.

Need and Use of Information Collection: The information gathered will be used by management and staff to establish baseline data, to identify strengths and weaknesses in the current consultation process, to assess how well the processes are working, to make improvements that are practical and feasible, and to provide feedback to local tribal officials, health boards, tribal organizations, urban Indian health programs, and community members regarding stakeholder satisfaction with the agency's tribal consultation process.

Frequency: Annually.

Affected Public: Individuals, not-for-profit institutions and State, local or Tribal Government.

Number of Respondents: 605.

Annual Number of Responses per Respondents: 1.

Total Annual Responses: 605.

Average Burden per response: 20 minutes.

Total Annual Hours Requested: 202.

There are no Capital Costs, Operating Costs and/or Maintenance Costs to report for this collection of information.

Request for Comment

Your written comments and/or suggestions are invited on one or more of the following points: (a) Whether the information collection activity is necessary to carry out an agency function; (b) whether the IHS processes the information collection in a useful and timely fashion; (c) the accuracy of the public burden estimate (the estimated amount of time needed for individual respondents to provide the requested information); (d) whether methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time, to: Office of Management and Budget, Office of Regulatory Affairs, New Executive Office Building, Room 10235, Washington, DC 20503, Attention: Desk Officer for IHS. To request more information on the proposed collection or to obtain a copy of the data collection plan(s) and/or instruction(s), contact: Mr. Lance Hodahkwen, Sr., M.P.H., IHS Reports Clearance Officer, 12300 Twinbrook Parkway, Suite 450, Rockville, MD 20852.1601, call non-toll free (301) 443-5938, or send via facsimile to (301) 443-2613, or E-mail requests, comments, and return address to: lhodahkwen@hqe.ihs.gov.

Comment Due Date: Your comments regarding this information collection are best assured of having their full effect if received within 30 days of the date of this publication.

Dated: December 21, 2001.
Michael E. Lincoln,
Deputy Director.

[FR Doc. 01-32087 Filed 12-28-01; 8:45 am]

BILLING CODE 4160-16-M